DEPARTMENT OF HEALTH AND HUMAN SERVICES

Centers for Disease Control and Prevention

[60Day-10-10AJ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Acting Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of Childhood Obesity Prevention and Control Initiative: New York City Health Bucks Program—New—Division of Nutrition, Physical Activity, and Obesity (DNPAO), National Center for Chronic Disease Prevention and Health Promotion (NCCDPHP), Centers for Disease Control and Prevention (CDC).

Background and Brief Description

The Division of Nutrition, Physical Activity, and Obesity (DNPAO) at the Centers for Disease Control and Prevention (CDC), is working to reduce obesity and related health conditions via a multi-pronged approach including active identification of promising local programs and policies designed to prevent childhood obesity. Priority is being given to programs and policies targeting improved eating habits and physical activity levels among children in low-income communities.

The New York City Health Bucks program, operated by the New York City Department of Health and Mental Hygiene (DOHMH), is one example of this type of initiative. The program operates in three high-need, underserved New York City neighborhoods: The South Bronx, North and Central Brooklyn, and East and Central Harlem. Through the program, targeted neighborhood residents are provided with $2 “Health Bucks” that can be redeemed at local farmers' markets for the purchase of fresh, locally-grown fruits and vegetables. As an added incentive for Food Stamp/Supplemental Nutrition Assistance Program (SNAP) participants, individuals using an Electronic Benefits Transfer (EBT) card at participating farmers' markets receive one $2 Health Buck for every $5 spent. The Health Bucks program is intended to increase fresh fruit and vegetable purchases and consumption, and to increase access at the community level by attracting local farmers to these underserved areas.

CDC plans to sponsor an evaluation of the NYC Health Bucks program to assess changes in consumer behavior and to identify factors serving as barriers or facilitators to program implementation. The evaluation will involve vendors, managers and consumers at 90 farmers' markets in New York City, residents in the neighborhoods near markets that accept Health Bucks, and approximately 200 organizations expected to participate in the NYC Health Bucks program during 2010.

The evaluation will include seven information collection activities: (1) A Web-based survey of local community organizations that distribute Health Bucks in the target neighborhoods. Responses will be analyzed to assess organizations' motivations for participating in the program and any barriers or facilitators encountered. Because this survey will replace the post-season survey currently required by the DOHMH, it is not expected to place substantial new burden on this group of respondents. (2) A market managers' survey will be mailed to the manager at each market site. This survey is designed to assess barriers and facilitators to distributing and accepting Health Bucks, as well as factors influencing decisions to operate markets in underserved neighborhoods. (3) A similar survey will be distributed to farmers' market vendors to assess their experiences with the program and factors influencing their decisions to sell at markets in underserved neighborhoods. (4) In-person interviews will be conducted with an average of 30 consumers at each Health Bucks markets and 20 at non-Health Bucks markets, for a total of about 2,300 consumers. The interviews will obtain information about consumers' access to fresh fruits and vegetables at farmers' markets and other sellers, fresh fruit and vegetable purchase and consumption, food insecurity, reasons for shopping at farmers' markets, and experiences with using Health Bucks and SNAP benefits at farmers' markets. (5) Similar information will be collected from random-digit dial telephone interviews of neighborhood residents. Approximately 1,000 residents will be surveyed, with equal sample sizes in each of the three New York City neighborhoods in which NYC Health Bucks operates. (6) Focus groups will be conducted with farmers' market vendors to obtain in-depth information about their motivations for operating in underserved neighborhoods and experiences with NYC Health Bucks. (7) Focus groups will be conducted with farmers' market consumers to obtain in-depth information about their motivations for shopping at farmers' markets and experiences with NYC Health Bucks. All focus groups will incorporate appropriate representation of diverse ethnic groups, and the groups will be held in convenient locations in New York City to ensure participants can attend.

Farmers' market consumer and vendor surveys and the telephone survey of neighborhood residents will be available in English or Spanish.

The information collected in the evaluation study will be used to: assess the program's ability to improve nutrition behaviors among targeted participants; identify factors serving as barriers and facilitators to program implementation and expected outcomes; provide feedback to the DOHMH for the purposes of program improvement; and share results with other entities interested in implementing similar programs.

There are no costs to respondents other than their time.

Estimated Annualized Burden Hours
Type of respondents | Form type | Number of respondents | Number of responses per respondent | Average burden (in hours) | Total burden (in hours)
Local Community Organizations | Local Community Organization Survey | 200 | 1 | 10/60 | 33
Farmers' Market Managers | Farmers' Market Managers Survey | 90 | 1 | 8/60 | 12
Farmers' Market Vendors | Farmers' Market Vendor Survey | 450 | 1 | 7/60 | 53
| Farmers' Market Vendor Focus Group | 24 | 1 | 2 | 48
Farmers' Market Consumers | Consumer Point-of-Purchase Survey | 2300 | 1 | 7/60 | 268
| Consumer Focus Group | 48 | 1 | 2 | 96
NYC Health Bucks Neighborhood Residents | Neighborhood Resident Survey | 1000 | 1 | 9/60 | 150
Total |  |  |  |  | 660

Dated: December 8, 2009.
Maryam I. Daneshvar,
Acting Reports Clearance Officer, Centers for Disease Control and Prevention.

[FR Doc. E9-29974 Filed 12-16-09; 8:45 am]

BILLING CODE 4163-18-P